DEPARTMENT OF TRANSPORTATION

Federal Motor Carrier Safety Administration

[Docket No. FMCSA-2007-29250]

Agency Information Collection Activities; Revision of an Approved Information Collection: OMB Control No. 2126-0011 (Commercial Driver Licensing and Test Standards)

AGENCY: Federal Motor Carrier Safety Administration (FMCSA), DOT.

ACTION: Notice and request for comments.

SUMMARY: In accordance with the Paperwork Reduction Act of 1995, FMCSA announces its plan to submit the existing Information Collection Request (ICR) described below to the Office of Management and Budget (OMB) for review and approval. This information collection is necessary to ensure that drivers, motor carriers and the States comply with the notification and recordkeeping requirements for information related to testing, licensing, violations, convictions and disqualifications and that the information is accurate. On July 10, 2007, FMCSA published a Federal Register notice allowing for a 60-day comment period on the ICR. One comment was received.

DATES: Please send your comments by November 16, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Mr. Robert Redmond, Senior Transportation Specialist, Office of Safety Programs, Commercial Driver's License Division, MC-ESL (W65-227), 1200 New Jersey Avenue, SE, Washington, DC 20590-0001. Telephone: 202-366-5014; e-mail robert.redmond@dot.gov. Office hours are from 9 a.m. to 5:30 p.m., e.t., Monday through Friday, except Federal Holidays.

SUPPLEMENTARY INFORMATION: Title: Commercial Driver Licensing and Test Standards.

OMB Control Number: 2126-0011.

Type of Request: Revision of a currently-approved information collection.

Respondents: Drivers with a commercial driver's license (CDL) and State driver licensing agencies.

Estimated Number of Respondents: 8,332,800 driver respondents and 7,870,720 State respondents.

Estimated Time per Response: 5.15 minutes.

Expiration Date: October 31, 2007.

Frequency of Response: Variable.

Estimated Total Annual Burden: 1,391,456 hours.

The information collection is comprised of seven components:

(1) Notification of Convictions/Disqualifications: There are approximately 11.52 million active commercial driver's license (CDL) driver records. Each driver averages 1 conviction every 3 years. The estimated number of annual responses = 3,840,000 (11.52 million CDL drivers/3 = 3,840,000). It takes approximately 10 minutes to notify a motor carrier concerning convictions. The notification requirement has an estimated annual burden of 640,000 burden hours (3,840,000 convictions × 10/60 hours = 640,000 hours);

(2) Providing Previous Employment History: Estimated annual turnover rate of drivers is approximately 14 percent. There are an estimated 1,612,800 annual responses to this requirement (11.52 million CDL drivers × .14 annual turnover rate = 1,612,800). It takes approximately 15 minutes to complete this requirement. The employment history requirement has an estimated annual burden of 403,200 hours (1,612,800 annual responses × 15/60 hours = 403,200 hours);

(3) State Certification of Compliance: There are 51 responses (50 States and the District of Columbia) to this requirement and it takes approximately 32 hours to complete each response. The compliance certification requirement has an estimated annual burden of 1,632 hours (51 responses × 32 hours = 1,632 hours);

(4) State Compliance Review Documentation: A State CDL compliance review is conducted approximately every 3.4 years. There are 15 responses (51 States/3.4 years = 15 States/year). It takes approximately 160 hours to complete each response. The State compliance review documentation requirement has an estimated annual burden of 2,400 hours (15 States × 160 hours = 2,400 hours).

(5) CDLIS Recordkeeping: Fifty (50) States and the District of Columbia are required to enter data into the commercial driver's license information system (CDLIS) about operators of CMVs and to perform record checks before issuing, renewing, upgrading or transferring a CDL.

There are approximately 576,000 new drivers a year (11.52 million drivers × .05 = 576,000 new drivers). We estimate that the average amount of time for each CDLIS inquiry performed by a State to add a new driver is 2 minutes. The new driver requirement has an estimated annual burden of 19,200 hours (576,000 transactions × 2/60 = 19,200 hours).

There are 230,400 drivers a year who change their State of domicile (11.52 million drivers × .02 = 230,400 drivers). We estimate that the average amount of time for each CDLIS inquiry performed by a State to change a driver's State of domicile is 2 minutes. The State of domicile change requirement has an estimated annual burden of 7,680 hours (230,400 transactions × 2/60 hours = 7,680 hours).

Approximately 25 percent of convictions result in a disqualification. There are 4,800,000 driver convictions and disqualifications (3,840,000 convictions × 1.25 = 4,800,000). We estimate that the average amount of time for each transaction performed by a State is 2 minutes. The driver conviction/disqualification transaction requirement has an estimated annual burden of 160,000 hours (4,800,000 transactions × 2/60 hours = 160,000 hours).

Approximately 33 percent of active CDL drivers have a hazardous materials endorsement. The average renewal period is approximately 5 years. There are 760,320 drivers a year applying for, or renewing, a hazardous materials endorsement to their CDL (11.52 million active CDL drivers × .33/5 years = 760,320 drivers). We estimate that the average amount of time for each citizenship/resident alien status check performed by a State is 2 minutes. The citizenship/resident alien status check transaction requirement has an estimated annual burden of 25,344 hours (760,320 transactions × 2/60 hours = 25,344 hours).

The total burden hours for these combined collection of information activities is 212,224 hours (19,200 hours + 7,680 hours + 160,000 hours + 25,344 hours = 212,224 hours).

(6) CDL Application Form: There are approximately 576,000 new CDL applicants a year. It takes approximately 1 minute to complete the CDL application. The new applicant CDL application requirement has an estimated annual burden of 9,600 hours (576,000 applications × 1 /60 hours = 9,600 hours).

The average CDL renewal period is approximately 5 years. Therefore, 2,304,000 drivers renew their CDL a year (11.52 million active CDL drivers/5 years = 2,304,000 drivers). It takes approximately 1 minute for renewal drivers to complete the CDL application. The renewal driver CDL application requirement has an estimated annual burden of 38,400 hours (2,304,000 × 1/60 hours = 38,400 hours).

The total burden hours for these combined collection of information activities is 48,000 hours (9,600 hours + 38,400 hours = 48,000 hours).

(7) Knowledge and Skills Test Recordkeeping: There are approximately 576,000 new CDL applicants a year. It takes approximately 2 minutes to record the results of knowledge tests and 5 minutes for the skills tests. Approximately 25 percent of the applicants fail the knowledge and skills tests.

The knowledge test recordkeeping requirement has an estimated annual burden of 24,000 hours (576,000 applicants × 2 /60 hours × 1.25 = 24,000 hours).

The skills test recordkeeping requirement has an estimated annual burden of 60,000 hours (576,000 applicants × 5/60 hours × 1.25 = 60,000).

The total burden hours are 84,000 hours for these combined activities (24,000 + 60,000 = 84,000).

Background: The licensed drivers in the United States deserve reasonable assurance that their fellow motorists are properly qualified to drive the vehicles they operate. Before the Commercial Motor Vehicle Safety Act of 1986 (CMVSA or the Act at Public Law 99-570, Title XII, 100 Stat. 3207-170), was signed by the President on October 27, 1986, 18 States and the District of Columbia authorized any person licensed to drive an automobile to also legally drive a large truck or bus. No special training or special license was required to drive these vehicles, even though it was widely recognized that operation of certain types of vehicles called for special skills, knowledge and training. Even in the 32 States that had a classified driver licensing system, only 12 required an applicant to take a skills test in a representative vehicle. Equally serious was the problem of drivers possessing multiple driver licenses that enabled the commercial motor vehicle (CMV) drivers to avoid license suspension for traffic law convictions. By spreading their convictions among several States, CMV drivers could avoid punishment for their infringements and stay behind the wheel.

The CMVSA addressed these problems. Section 12002 of the Act makes it illegal for a CMV operator to have more than one driver's license. Section 12003 requires the CMV driver conducting operations in commerce to notify both the designated State of licensure official and the driver's employer of any convictions of State or local laws relating to traffic control (except parking tickets). This section also requires each person who applies for employment as a CMV operator to notify prospective employers of all previous employment as a CMV operator for at least the previous ten years.

In section 12005 of the Act, the Secretary of Transportation (Secretary) is required to develop minimum Federal standards for testing and licensing of operators of CMVs.

Section 12007 of the Act also directs the Secretary, in cooperation with the States, to develop a clearinghouse to aid the States in implementing the one driver, one license, and one driving record requirement. This clearinghouse is known as the CDLIS.

The CMVSA further requires each person who has a CDL suspended, revoked or canceled by a State, or who is disqualified from operating a CMV for any period, to notify his or her employer of such actions. Drivers of CMVs must notify their employers within 1 business day of being notified of the license suspension, revocation, and cancellation, or of the lost right to operate or disqualification. These requirements are reflected in 49 CFR part 383, titled “Commercial Driver's License Standards; Requirements and Penalties.”

Specifically, section 383.21 prohibits a person from having more than one license; section 383.31 requires notification of convictions for driver violations; section 383.33 requires notification of driver's license suspensions; section 383.35 requires notification of previous employment; and section 383.37 outlines employer responsibilities. Section 383.111 requires the passing of a knowledge test by the driver and section 383.113 requires the passing of a skills test by the driver; section 383.115 contains the requirement for the double/triple trailer endorsement, section 383.117 contains the requirement for the passenger endorsement, section 383.119 contains the requirement for the tank vehicle endorsement and section 383.121 contains the requirement for the hazardous materials endorsement.

Section 12011 of the CMVSA states that the Secretary shall withhold a portion of the Federal-aid highway funds apportioned to a State if the State does not substantially comply with the requirements in section 12009(a) of the Act. The information gathered during State compliance reviews is used to determine whether States are complying with these requirements.

A final rule was published on July 31, 2002 (67 FR 4972) implementing 15 of the 16 CDL-related provisions of the Motor Carrier Safety Improvement Act of 1999 (MCSIA) (Public Law 106-159, 113 Stat. 1748 (Dec. 9, 1999)) that were designed to enhance the safety of drivers on our nation's highways by ensuring that only safe drivers operate CMVs. These new requirements are contained in 49 CFR part 383 and include: five new major and serious disqualifying offenses (section 383.51): non-CMV disqualifying offenses by a CDL holder (section 383.51); disqualification of drivers determined to be an imminent hazard (section 383.52); a new school bus endorsement (section 383.123); a prohibition on issuing a hardship license to operate a CMV while under suspension (section 384.210); a prohibition on masking convictions (section 384.226); and various requirements for transmitting, posting and retaining driver convictions and disqualification records

An interim final rule (IFR) was published on May 5, 2003 (68 FR 23844) as a companion rule to the Transportation Security Administration's (TSA's) May 5, 2003 IFR implementing section 1012 of the USA PATRIOT Act (Public Law 107-56) on security threat assessments for drivers applying for, or renewing, a CDL with a hazardous materials endorsement. While TSA set the requirements in their rule; FMCSA has the responsibility as part of the CDL testing and issuance process to ensure that States are in compliance with the TSA requirements.

The 10-year employment history information supplied by the CDL holder to the employer upon application for employment (49 CFR 383.35) is used to assist the employer in meeting his/her responsibilities to ensure that the applicant does not have a history of high safety risk behavior.

State officials use the information collected on the license application form (49 CFR 383.71) and the conviction and disqualification data posted to the driving record (49 CFR 383.73) to prevent unqualified and/or disqualified CDL holders from operating CMVs on the nation's highways. State officials are also required to administer knowledge and skills tests to CDL driver applicants (49 CFR 384.202). The driver applicant is required to correctly answer at least 80 percent of the questions on each knowledge test in order to achieve a passing score on that test. To achieve a passing score on the skills test, the driver applicant must demonstrate that he/she can successfully perform all of the skills listed in the regulations. During State CDL compliance reviews, FMCSA officials review this information to ensure that the provisions of the regulations are being carried out. Without the aforementioned requirements, there would be no uniform control over driver licensing practices to prevent unqualified and/or disqualified drivers from being issued a CDL and to prevent unsafe drivers from spreading their convictions among several licenses in several States and remaining behind the wheel of a CMV. Failure to collect this information would render the regulations unenforceable.

Information submitted by the States will be used by FMCSA to determine if individual States are in “substantial compliance” with section 12009(a) of the CMVSA. The FMCSA reviews information submitted by the States and conducts such reviews, audits, and investigations of each State once every three years or as it deems necessary to make compliance determinations for all States and the District of Columbia. If this information were not available, FMCSA would have no means of independently verifying State compliance.

This request for renewed approval includes three additional information collection items: (1) “State completing documents for a State-CDL compliance review [49 CFR 384],” (2) “CDL Knowledge and Skills Tests Recordkeeping [49 CFR 384.202]” and 3) driver renewals under “Driver Completion of the CDL Application [49 CFR 383.71].”

Only one comment was received in response to the 60-day notice that was published on July 10, 2007 (72 FR 37563). It was in the form of a report on covert monitoring of third-party testers from the State of North Carolina, Division of Motor Vehicles. The report did not provide any information that would affect the information collection burden hour estimate.

Definitions: Under 49 CFR 383.5, a CMV is defined as a motor vehicle or combination of motor vehicles which: (a) Has a gross combination weight rating of 11,794 or more kilograms (kg) (26,001 or more pounds (lbs) inclusive of a towed unit with a gross vehicle weight rating (GVWR) of more than 4,536 kg (10,000 lbs); (b) has a GVWR of 11,794 or more kg (26,001 or more lbs); (c) is designed to transport 16 or more passengers, including the driver; or (d) is of any size and is used to transport hazardous materials as hazardous materials are defined in 49 CFR 383.5.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued on: October 11, 2007.
Terry Shelton,
Associate Administrator, Research & Information Technology.

[FR Doc. E7-20490 Filed 10-16-07; 8:45 am]

BILLING CODE 4910-EX-P